FEDERAL COMMUNICATIONS COMMISSION

Radio Broadcasting Services; AM or FM Proposals To Change the Community of License

AGENCY: Federal Communications Commission.

ACTION: Notice.

SUMMARY: The following applicants filed AM or FM proposals to change the community of license: EDUCATIONAL MEDIA FOUNDATION, Station KZAI, Facility ID 94226, BMPED-20080627ABM, From COOLIDGE, AZ, To SUPERIOR, AZ; FLINN BROADCASTING CORPORATION, Station KWBF-FM, Facility ID 49255, BPH-20090226ABR, From NORTH LITTLE ROCK, AR, To CAMMACK VILLAGE, AR; GREAT SOUTH WIRELESS, LLC, Station WTID, Facility ID 85767, BMPH-20090217AFH, From THOMASTON, AL, To ORRVILLE, AL; KONA COAST RADIO, LLC., Station KMAP, Facility ID 170959, BMPH-20090213GWP, From ARRIBA, CO, To FLEMING, CO; SAIDNEWSFOUNDATION, Station WJKZ, Facility ID 175750, BMPED-20090302AAD, From HANOVER, MI, To HOMER, MI; SCOTT COMMUNICATIONS, INC., Station WALX, Facility ID 950, BPH-20090217AFB, From ORRVILLE, AL, To VALLEY GRANDE, AL; SCOTT COMMUNICATIONS, INC., Station WMRK, Facility ID 947, BP-20090217AFE, From SELMA, AL, To THOMASTON, AL; SCOTT SAVAGE, RECEIVER, Station WFJO, Facility ID 22005, BPH-20090217AEA, From FOLKSTON, GA, To JACKSONVILLE BEACH, FL.

DATES: Comments may be filed through June 5, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E9-7521 Filed 4-3-09; 8:45 am]

BILLING CODE 6712-01-P